DEPARTMENT OF THE INTERIOR

Fish and Wildlife Service

[FWS-R4-R-2013-N059; FXRS12650400000S3-123-FF04R02000]

Desecheo National Wildlife Refuge, PR; Final Comprehensive Conservation Plan and Finding of No Significant Impact for the Environmental Assessment

AGENCY: Fish and Wildlife Service, Interior.

ACTION: Notice of availability.

SUMMARY: We, the Fish and Wildlife Service (Service), announce the availability of the final comprehensive conservation plan and finding of no significant impact for the environmental assessment (Final CCP/FONSI) for Desecheo National Wildlife Refuge (NWR) in the municipality of Mayagüez, Puerto Rico. In the Final CCP/EA, we describe how we will manage this refuge for the next 15 years.

ADDRESSES: You may obtain a copy of the Final CCP/FONSI by writing to: Ms. Susan Silander, via U.S. mail at P.O. Box 510, Boquerón, PR 00622. Alternatively, you may download the document from our Internet Site at http://southeast.fws.gov/planning under “Final Documents.”

FOR FURTHER INFORMATION CONTACT: Ms. Susan Silander at 787/851-7258 (telephone).

SUPPLEMENTARY INFORMATION:

Introduction

With this notice, we finalize the CCP process for Desecheo NWR. We started the process through a notice in the Federal Register on December 19, 2008 (73 FR 77828). For more about the refuge and planning process, please see that notice.

Desecheo NWR is a 360-acre island located in the Mona Passage, approximately 12 miles west of Rincón, Puerto Rico.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Comments

We made copies of the Draft Comprehensive Conservation Plan and Environmental Assessment (Draft CCP/EA) available for a 30-day public review and comment period via a Federal Register notice on July 11, 2012 (77 FR 40893). We provided copies of the Draft CCP/EA to a number of individuals, non-governmental organizations, and government agencies. Several comments were received, mostly dealing with the safety of the refuge regarding the removal of unexploded ordnance.

CCP Alternatives, Including Our Preferred Alternative

We developed three alternatives for managing the refuge (Alternatives A, B, and C), with Alternative C selected for implementation.

Over the 15-year life of the CCP, we will provide the conditions for reestablishment of nesting seabird colonies. Routine monitoring and life-history studies of terrestrial reptiles will be conducted and habitat improvements will be made. We will continue periodic surveys of turtles and implement seasonal surveys of migratory landbirds. We will pursue opportunities for propagation, reintroduction, and removal of threats to the Higo Chumbo cactus.

We will increase monitoring and, if necessary, efforts to remove invasive species. The number of vegetation plots and frequency of monitoring will be increased to improve restoration efforts. Over the 15-year life of the CCP, we will complete the removal of all invasive animal species. We will also develop and implement a plan for monitoring and mitigating the effects of climate change on the refuge.

Under our preferred action, the levels of surveillance and enforcement with partners will be increased, and we will also provide additional equipment to improve enforcement capabilities on the refuge.

We will increase off-site environmental education and outreach to mainland communities and schools, and we will increase the availability of interpretive materials, such as brochures and fact sheets. Subject to safety concerns being met, we will increase on-site interpretation through signage and brochures and provide limited opportunities for refuge-guided wildlife observation and photography. We will continue to respond to special requests for non-wildlife-dependent uses that are appropriate and compatible.

We will continue to work with cooperating agencies and partners to increase safety on the refuge through the removal of unexploded ordnance. Safety will be ensured by only permitting controlled, refuge-guided activities in cleared areas. We will acquire an open-water boat capable of reaching the island to provide for extended visits.

This alternative will add a half-time public use or park ranger position and a half-time manager position to be shared with the Caribbean Islands National Wildlife Refuge Complex.

Authority

This notice is published under the authority of the National Wildlife Refuge System Improvement Act of 1997 (16 U.S.C. 668dd et seq.).

Dated: April 25, 2013.
Mike Oetker,
Acting Regional Director.

[FR Doc. 2013-19808 Filed 8-14-13; 8:45 am]

BILLING CODE 4310-55-P